DEPARTMENT OF ENERGY

Federal Energy Regulatory Commission

[Docket No. EL04-119-000, et al.]

Quest Energy, L.L.C., et al.; Electric Rate and Corporate Filings

July 16, 2004.

The following filings have been made with the Commission. The filings are listed in ascending order within each docket classification.

1. Quest Energy, L.L.C. v. The Detroit Edison Company

[Docket No. EL04-119-000]

Take notice that on July 14, 2004, Quest Energy, L.L.C. (Quest) filed a formal complaint against The Detroit Edison Company (Detroit Edison) pursuant to 18 CFR 385.206. Quest alleges that Detroit Edison failed to compensate Quest for imbalance energy provided to Detroit Edison during a 38 hour period between August 14 and 16, 2003. Quest states that as a result of Detroit Edison's failure to follow its Tariff and refusal to apply Schedule 4 to energy deliveries during this period, Quest has been under-compensated approximately $449,852, including interest.

Comment Date: 5 p.m. eastern time on August 3, 2004.

2. Carthage Energy, LLC, Energetix, Inc., New York State Electric & Gas Corporation, NYSEG Solutions, Inc., Rochester Gas and Electric Corporation, PEI Power II, LLC, South Glens Falls Energy, LLC, Hartford Steam Company

[Docket Nos. ER99-2541-005, ER97-3556-013, ER99-221-007, ER99-220-010, ER97-3553-001, ER01-1764-002, ER00-262-004, and ER04-582-003]

Take notice that on July 12, 2004, Carthage Energy, LLC, Energetix, Inc. (Energetix), New York State Electric & Gas Corporation, NYSEG Solutions, Inc., Rochester Gas and Electric Corporation (RG&E), PEI Power II, LLC (PE12), and South Glens Falls Energy, LLC submitted a compliance filing in triennial market power analysis. Energetix, RG&E and PE12, also submitted revised tariff sheets to incorporate the market behavior rules adopted the Commission, Investigation of Terms and Conditions of Public Utility Market-Based Rate Authorizations, 105 FERC ¶ 61,218 (2003). In addition, Hartford Steam Company, in compliance with Acadia Power Partners, LLC, 107 FERC ¶ 61,168 (2004) tendered for filing an amendment to its pending market-based rate application in Docket No. ER04-582-000.

Comment Date: 5 p.m. eastern time on August 2, 2004.

3. El Dorado Energy, LLC

[Docket No. ER99-3865-001

Take notice that on July 12, 2004, El Dorado Energy, LLC (El Dorado) submitted an updated market power analysis. El Dorado also tendered for filing amendments to its market-based rate tariff in compliance with the Commission's order issued November 17, 2003, in Docket No. EL01-118-000.

Comment Date: 5 p.m. eastern time on August 2, 2004.

4. Cross-Sound Cable Company, LLC

[Docket No. ER00-1-004]

Take notice that on July 14, 2004, Cross-Sound Cable Company, LLC (CSC LLC) filed a motion for waiver of section 141.1 of the Commission's regulations that requires it to file FERC Form No. 1, Annual Report of Major Electric Utilities. CSC LLC states that because of CSC LLC's unique circumstances, the Form No. 1 filing requirement is neither necessary nor appropriate, and the annual Form No. 1 filing requirement should be waived for CSC LLC.

Comment Date: 5 p.m. eastern time on August 4, 2004.

5. AES Ironwood, LLC

[Docket No. ER01-1315-000]

Take notice that on July 12, 2004, AES Ironwood, LLC (Ironwood) submitted for filing its triennial market power update analysis. Ironwood also submitted for filing amendments to its market-based rate tariff implementing the Market Behavior Rules adopted by the Commission, Investigation of Terms and Conditions of Public Utility Market-Based Rate Authorization, 105 FERC ¶ 61,218 (2003). In addition, Ironwood also submitted for approval its revision to FERC Electric Tariff, Original Volume No. 1, and its first revision to its Statement of Policy and Code of Conduct.

Comment Date: 5 p.m. eastern time on August 2, 2004.

6. PPL Wallingford Energy LLC

[Docket No. ER01-1559-002]

Take notice that on July 12, 2004, PPL Wallingford Energy LLC (PPL Wallingford) submitted for filing an updated market power analysis. PPL Wallingford also filed revisions to its FERC Electric Tariff, Original Volume No. 1 to incorporate the Market Behavior Rules adopted by the Commission in Investigation of Terms and Conditions of Public Utility Market-Based Rate Authorizations, 105 FERC ¶ 61,218 (2003).

Comment Date: 5 p.m. eastern time on August 2, 2004.

7. PPL Southwest Generation Holdings, LLC

[Docket No. ER01-1870-002]

Take notice that on July 12, 2004, PPL Southwest Generation Holdings, LLC (PPL Southwest Generation) filed an updated market power analysis. PPL Southwest Generation also filed revisions to its market-based rate tariff to incorporate the Market Behavior Rules the Commission adopted by order issued November 17, 2003, in Docket No. EL01-118-000.

PPL Southwest Generation states that it has served a copy of this filing on the parties on the Commission's official service list for Docket No. ER01-1870-002.

Comment Date: 5 p.m. eastern time on August 2, 2004.

8. Moses Lake Generating LLC

[Docket No. ER01-1871-002]

Take notice that on July 12, 2004, Moses Lake Generating LLC (Moses Lake) filed with the Commission its triennial updated market analysis. Moses Lake also tendered for filing an amendment to its FERC Electric Tariff to incorporate the Market Behavior Rules adopted by the Commission, Investigation of Terms and Conditions of Public Utility Market-Based Rate Authorizations, 105 FERC ¶ 61,218 (2003).

Comment Date: 5 p.m. eastern time on August 2, 2004.

9. Entergy Services, Inc.

[Docket No. ER03-861-002]

Take notice that on July 12, 2004, Entergy Services, Inc., on behalf of Entergy Arkansas, Inc., Entergy Gulf States, Inc., Entergy Louisiana, Inc., Entergy Mississippi, Inc., and Entergy New Orleans, Inc., (collectively, the Entergy Operating Companies) tendered for filing a refund report in compliance with the Commission's order issued May 27, 2004 in Docket No. ER03-861-000.

Entergy Operating Companies states that it has served upon all impacted customers and their respective states commissions.

Comment Date: 5 p.m. eastern time on August 2, 2004.

10. Tucson Electric Power Company and UNS Electric, Inc.

[Docket Nos. ER04-460-002]

Take notice that on July 14, 2004, Tucson Electric Power Company (Tucson Electric) and UNS Electric, Inc. (UNS Electric) submitted revised tariff sheets in compliance with the Commission's “Order Accepting in Part, Rejecting in Part, and Modifying in Part Tariff Sheets Modifying Pro Forma Standard Large Generator Interconnection Procedures and Standard Large Generator Interconnection Agreement” issued on June 4, 2004, in Docket Nos. ER04-460-000 and 001. Tucson Electric and UNS Electric request an effective date of January 20, 2004.

Comment Date: 5 p.m. eastern time on August 4, 2004.

11. Praxair Plainfield, Inc.

[Docket No. ER04-635-001]

Take notice that on July 13, 2004, Praxair Plainfield, Inc. (Plainfield) filed an amendment to its pending application requesting acceptance of its proposed Market-Based Rate Tariff (Tariff), waiver of certain regulations, and blanket approvals filed on March 10, 2004, in Docket No. ER04-635-000. Plainfield states that the Tariff would authorize Plainfield, inter alia, to engage in wholesale sales of energy, capacity, and ancillary services, as well as firm transmission rights to eligible customers at market-based rates, and to reassign transmission capacity rights at negotiated rates.

Comment Date: 5 p.m. eastern time on August 3, 2004.

12. Alabama Power Company

[Docket No. ER04-692-000]

Take notice that on July 12, 2004, Alabama Power Company (APC), filed request for withdrawal of its March 31, 2004, filing of Revision No. 9 to Rate Schedule REA-1 of APC's FERC Electric Tariff, Original Volume No. 1, to be effective July 12, 2004.

Comment Date: 5 p.m. eastern time on August 2, 2004.

13. Southern Company Services, Inc.

[Docket No. ER04-953-000]

Take notice that on July 8, 2004, Southern Company Services, Inc. (SCS), on behalf of Georgia Power Company (GPC), filed with the Commission a clarification of its June 23, 2004, Notice of Cancellation of the Interconnection Agreement between Southern Power Company and GPC, Service Agreement No. 459 under Southern Companies' Open Access Transmission Tariff, Fourth Revised Volume No. 5.

Comment Date: July 29, 2004.

14. Mid-Continent Area Power Pool

[Docket No. ER04-960-001]

Take notice that on July 13, 2004, Mid-Continent Area Power Pool (MAPP) submitted Second Revised Sheet No. 18 to MAPP's FERC Electric Tariff, 1st Revised Volume No. 1. MAPP states that the revised sheet was inadvertently omitted from its June 25, 2004, filing in Docket No. ER04-960-001.

MAPP states that a copy of the filing has been served on all MAPP members, customers under Schedule F, and the state commissions in the MAPP region.

Comment Date: 5 p.m. eastern time on August 3, 2004.

15. New England Power Pool

[Docket No. ER04-1005-000]

Take notice that on July 12, 2004, the New England Power Pool (NEPOOL) Participants Committee filed a revision to section 2.9(d) of NEPOOL Market Rule 1, clarifying the procedures to be used when correcting Day-Ahead Energy Market results. NEPOOL requests an effective date of September 10, 2004.

The NEPOOL Participants Committee states that copies of the filing were sent to NEPOOL Participants and the New England State governors and regulatory commissions.

Comment Date: 5 p.m. eastern time on August 2, 2004.

16. Rochester Gas and Electric Corporation

[Docket No. ER04-1006-000]

Take notice that on July 12, 2004, Rochester Gas and Electric Corporation (RG&E) tendered for filing with the Commission an Executed Assignment and Assumption Agreement between Constellation Generation Group, LLC and R.E. Ginna Nuclear Power Plant, LLC, by which Constellation assigns, and Ginna assumes, Constellation's right, title and interest in and to the Interconnection Agreement between RG&E and Constellation, and a First Amendment to the Interconnection Agreement between RG&E and Ginna. RG&E requests an effective date of June 10, 2004.

RG&E states that this filing has been served upon Ginna, the New York State Public Service Commission, and the New York Independent System Operator, Inc.

Comment Date: 5 p.m. eastern time on August 2, 2004.

17. Southern California Edison Company

[Docket No. ER04-1011-000]

Take notice that on July 13, 2004, Southern California Edison Company (SCE) submitted for filing revised sheets that reflect a proposed increase in the rate for scheduling and dispatching (S&D) services as embodied in SCE's agreements with the following entities:

Entity | Rate schedule FERC No.
1. Arizona Public Service Company | 348
2. Imperial Irrigation District | 268
3. Metropolitan Water District of Southern California | 292
4. M-S-R Public Power Agency | 339
5. Pacific Gas and Electric Company | 256, 318

SCE states that each of the Agreements provides that the rate for S&D services will be redetermined annually. SCE proposes an updated S&D rate of $101.61 per transaction. SCE is requesting an effective date of September 10, 2004.

SCE states that copies of the filing were served upon the Public Utilities Commission of the State of California and SCE's jurisdictional customers listed above.

Comment Date: 5 p.m. eastern time on August 4, 2004.

18. PacifiCorp

[Docket No. ER04-1012-000]

Take notice that on July 13, 2004, PacifiCorp submitted Revised Appendices A, B, and C to the Amended and Restated Transmission Service and Operating Agreement with Utah Municipal Power Agency (UMPA) designated as First Revised Sheet Nos. 45 through 49 to PacifiCorp's First Revised FERC Rate Schedule Nos. 279, 289, 290, 291, 292 and 305. In addition, PacifiCorp submitted Notices of Cancellation of Rate Schedule Nos. 287 and 288 terminating the Mother Earth Interconnection Agreements with the City of Provo, Utah and UMPA.

PacifiCorp states that copies of this filing were supplied to the Public Utility Commission of Oregon, the Washington Utilities and Transportation Commission, and UMPA.

Comment Date: 5 p.m. eastern time on August 3, 2004.

19. Wheelabrator Westchester, L.P.

[Docket Nos. ER04-1013-000 and ER98-3030-002]

Take notice that on July 12, 2004, Wheelabrator Westchester, L.P. (Westchester) tendered for filing with the Commission (1) a triennial market power analysis; (2) a revised market-based rate tariff to incorporate the Market Behavior Rules adopted by the Commission in Investigation of Terms and Conditions of Public Utility Market-Based Rate Authorizations, 105 FERC ¶ 61,218 (2003); and (3) a Notice of Succession reflecting the fact that on May 25, 2001, Wheelabrator Westchester, L.P. changed its name from Westchester RESCO Co., L.P.

Westchester states that it has served a copy of this filing on the Commission's official service list in Docket No. ER04-98-3030.

Comment Date: 5 p.m. eastern time on August 3, 2004.

20. Midwest Independent Transmission System Operator, Inc.

[Docket No. ER04-1015-000]

Take notice that on July 14, 2004, Midwest Independent Transmission System Operator, Inc. (Midwest ISO) submitted an Interconnection and Operating Agreement among Crownbutte Wind Power LLC, the Midwest ISO and Montana-Dakota Utilities Co., a Division of MDU Resources Group, Inc. designated as Original Service Agreement No. 1398 to Midwest ISO's FERC Electric Tariff, Second Revised Volume No. 1. Midwest ISO requests an effective date of July 8, 2004.

Midwest ISO states that a copy of this filing was served on all parties.

Comment Date: 5 p.m. eastern time on August 4, 2004.

21. Kansas Gas & Electric Company

[Docket No. ER04-1016-000]

Take notice that on July 14, 2004, Kansas Gas & Electric Company (KGE) submitted 4th Revised Sheet No. 15 to KGE's Electric Service Tariff No. 93. KGE states that the change is to reflect the amount of transmission capacity requirements required by Westar Energy, Inc., under Service Schedule M to Rate Schedule 93 for the period from June 1, 2004, through May 31, 2005. KGE requests an effective date of June 1, 2004.

KGE states that a copy of this filing has been served upon the Kansas Corporation Commission.

Comment Date: 5 p.m. eastern time on August 4, 2004.

22. San Diego Gas & Electric Company

[Docket No. ER04-1017-000]

Take notice that on July 14, 2004, San Diego Gas & Electric Company (SDG&E) submitted revisions to its Transmission Owner Tariff, FERC Electric Tariff, Original Volume No. 11 (TO Tariff), to make ministerial changes regarding the term “Reliability Services,” to incorporate and provide for pass through to its customers reallocation of Must Offer Obligation/Minimum Load Compensation Cost related charges from the California Independent System Operator (CAISO), and to seek an interim increase in Reliability Services rates to address unexpected under-collections and anticipated year 2005 forecast increases. SDG&E requests an effective date of July 14, 2004, for the ministerial changes, an effective date as early as July 17, 2004, for the Must Offer Obligation/Minimum Load Compensation Costs related charges, and an effective date of October 1, 2004, for the Reliability Services rates increase.

SDG&E states that copies of the filing have been served on the California Public Utilities Commission and the CAISO.

Comment Date: 5 p.m. eastern time on August 4, 2004.

23. American Electric Power Service Corporation

[Docket No. ER04-1018-000]

Take notice that on July 14, 2004, American Electric Power Service Corporation (AEPSC) on behalf of Ohio Power Company (OPC) and Columbus Southern Power Co (CSP) has submitted (1) a Facilities, Interconnection, Operations and Maintenance Agreement between OPC and the Village of Woodsfield (Woodsfield) dated February 18, 2004, and (2) a Facility Construction, Operations, Maintenance and Repair Agreement between OPCo, CSP and American Municipal Power—Ohio (AMP-Ohio) dated April 16, 2004, consisting of a master agreement and four Facility Requests marked as Exhibit A No.1 through Exhibit A No. 4. AEPSC requests an effective date of July 1, 2004.

AEPSC states that a copy of the filing was served upon the Parties and the State utility regulatory commission of Ohio.

Comment Date: 5 p.m. eastern time on August 4, 2004.

24. Florida Power & Light Company

[Docket No. ER04-1019-000]

Take notice that on July 14, 2004, Florida Power & Light Company (FPL) submitted 2nd Revised Service Agreement No. 194 to FERC Electric Tariff, 2nd Revised Volume No. 6, the Interconnection & Operation Agreement between FPL and DeSoto County Generating Company, L.L.C. (DeSoto). FLP states that the revisions to Service Agreement No. 194 result from DeSoto's cancellation of its plans for a third generating unit. FPL requests an effective date of September 12, 2004.

FPL state that copies of the filing were served upon DeSoto.

Comment Date: 5 p.m. eastern time on August 4, 2004.

25. California Independent System Operator Corporation

[Docket No. ER04-1020-000]

Take notice that on July 14, 2004, the California Independent System Operator Corporation (ISO) submitted an amendment (Amendment No. 2) to revise the Metered Subsystem Aggregator Agreement between the ISO and Northern California Power Agency (NCPA). ISO states the purpose of Amendment No. 2 is to revise section 13.10, section 13.11, and schedule 1 of the agreement to (1) specify the treatment of Minimum Load Costs and to incorporate ISO Tariff defined terms, (2) to address the treatment of new elements of the ISO's Grid Management Charge, and (3) to include the new Silicon Valley Power “Nortech-Northern Receiving Station” Point of Interconnection.

The ISO states that this filing has been served on NCPA, the California Public Utilities Commission, and all entities on the official service lists for Docket No. ER02-2321-000 and No. ER03-1119-000.

Comment Date: 5 p.m. eastern time on August 4, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1651 Filed 7-23-04; 8:45 am]

BILLING CODE 6717-01-P